FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011626-005.

Title: The Alianca/Columbus/P&O Nedlloyd Agreement.

Parties: Alianca Navegacao e Logistica Ltda., Columbus Line, P&O Nedlloyd Limited, P&O Nedlloyd B.V.

Synopsis: The proposed amendment adds Crowley American Transport and Oceanica AGW Com. E Rep. Ltda. d/b/a “Mercosul Line” as members of the Agreement; suspends the East Coast United States/East Coast of South America portion of the Agreement; adds an additional vessel to the Agreement's Gulf ports service; reallocates space among the parties; and updates the Agreement's withdrawal provisions. The parties request expedited review.

Agreement No.: 011677-001.

Title: United States Australasia Agreement.

Parties: P&O Nedlloyd Limited, Contship Containerlines Limited, Wallenius Wilhelmsen Lines AS, Australia-New Zealand Direct Line, Columbus Line, CMA CGM S.A.

Synopsis: The proposed modification adds Article 17(K) that suspends overcarriage payments or undercarriage compensation during the initial pool period from November 1, 1999, through October 31, 2000. The modification also corrects the name and address of CMA CGM S.A.

Dated: August 18, 2000.
By Order of the Federal Maritime Commission.
Theodore A. Zook,
Assistant Secretary.

[FR Doc. 00-21546 Filed 8-22-00; 8:45 am]

BILLING CODE 6730-01-P